DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Director, National Institutes of Health.

The meeting will be open to the public, the attendance limited to space available. Individuals who plan to attend and need special assistance, such as sign language interpretation or other reasonable accommodations, should notify the Contact Person listed below in advance of the meeting.

Name of Committee: Advisory Committee to the Director, National Institutes of Health.

Date: September 5, 2014.

Time: 3:00 p.m. to 4:00 p.m.

Agenda: To review and evaluate reports from the HeLa Genome Data Access and the Stem Cell working groups.

Place: National Institutes of Health (Telephone Conference Call), Dial in 800-779-9282, Passcode: ACD Teleconference.

Contact Person: Gretchen Wood, Staff Assistant, National Institutes of Health Office of the Director, One Center Drive, Building 1, Room 126, Bethesda, MD 20892, 301-496-4272, woodgs@od.nih.gov.

Any member of the public interested in presenting oral comments to the committee must notify the Contact Person listed on this notice at least 10 days in advance of the meeting. Interested individuals and representatives of organizations must submit a letter of intent, a brief description of the organization represented, and a short description of the oral presentation. Time permitting, individuals or a single representative of an organization may be allowed to present oral comments. Depending on the number of requests received, the time allotment to each presenter may be limited. Both printed and electronic copies are requested for the record. In addition, any interested person may file written comments with the committee by forwarding their statement to the Contact Person listed on this notice.

The statement should include the name, address, telephone number and when applicable, the business or professional affiliation of the interested person.

Information is also available on the Institute's/Center's home page: http://acd.od.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS).

Dated: August 5, 2014.
Anna Snouffer,
Deputy Director, Office of Federal Advisory Committee Policy.

[FR Doc. 2014-18846 Filed 8-8-14; 8:45 am]

BILLING CODE 4140-01-P